FEDERAL MINE SAFETY AND HEALTH REVIEW COMMISSION

Sunshine Act Meetings

FEDERAL REGISTER CITATION OF PREVIOUS ANNOUNCEMENT: 90 FR 42969, September 5, 2025.

PREVIOUSLY ANNOUNCED TIME AND DATE OF THE MEETING: Meeting was originally scheduled for 10 a.m., on Wednesday, October 15, 2025.

CHANGES IN THE MEETING: 2 p.m., on Tuesday, December 2, 2025.

CONTACT PERSON FOR MORE INFORMATION: Rory P. Smith (202) 525-8649 / (202) 708-9300 for TDD Relay / 1-800-877-8339 for toll free.

Authority: 5 U.S.C. 552b.

Dated: November 19, 2025.
Rory P. Smith,
Attorney-Advisor.

[FR Doc. 2025-20615 Filed 11-19-25; 4:15 pm]

BILLING CODE 6735-01-P